DEPARTMENT OF HOMELAND SECURITY

Bureau of Customs and Border Protection

Tuna—Tariff-Rate Quota; The Tariff-Rate Quota for Calendar Year 2007, on Tuna Classifiable Under Subheading 1604.14.22, Harmonized Tariff Schedule of the United States (HTSUS)

AGENCY: Bureau of Customs and Border Protection, Department of Homeland Security.

ACTION: Announcement of the quota quantity of tuna in airtight containers for Calendar Year 2007.

SUMMARY: Each year the tariff-rate quota for tuna described in subheading 1604.14.22, HTSUS, is based on the apparent United States consumption of tuna in airtight containers during the preceding Calendar Year. This document sets forth the tariff-rate quota for Calendar Year 2007.

DATES: Effective Dates: The 2007 tariff-rate quota is applicable to tuna entered or withdrawn from warehouse for consumption during the period January 1, through December 31, 2007.

FOR FURTHER INFORMATION CONTACT: Headquarters Quota Branch, Textile Enforcement and Operations Division, Trade Policy and Programs, Office of International Trade, Bureau of Customs and Border Protection, Washington, DC 20229, (202) 344-2650.

Background

It has been determined that 18,678,022 kilograms of tuna in air-tight containers may be entered and withdrawn from warehouse for consumption during the Calendar Year 2007, at the rate of 6 percent ad valorem under subheading 1604.14.22, HTSUS. Any such tuna which is entered or withdrawn from warehouse for consumption during the current calendar year in excess of this quota will be dutiable at the rate of 12.5 percent ad valorem under subheading 1604.14.30 HTSUS.

Dated: March 15, 2007.
Daniel Baldwin,
Assistant Commissioner, Office of International Trade.

[FR Doc. E7-5101 Filed 3-20-07; 8:45 am]

BILLING CODE 9111-14-P